ENVIRONMENTAL PROTECTION AGENCY

40 CFR Part 112

[EPA-HQ-OPA-2008-0569 FRL-8750-5]

RIN 2050-AG48

Oil Pollution Prevention; Spill Prevention, Control and Countermeasures Rule; Revisions to the Regulatory Definition of “Navigable Waters”

AGENCY: Environmental Protection Agency.

ACTION: Correction.

SUMMARY: This document makes a correction to the Preamble of the final rule amending the Oil Pollution Prevention regulation published on November 26, 2008 (73 FR 71941). The final rule announced the vacatur of the July 17, 2002 revisions to the Clean Water Act section 311 regulatory definition of “navigable waters” in accordance with an order, issued by the United States District Court for the District of Columbia (D.D.C.) in American Petroleum Institute v. Johnson, 541 F.Supp.2d 165 (D.D.C. 2008), invalidating those revisions and restoring the regulatory definition of “navigable waters” promulgated by EPA in 1973. The final rule amended the definition of “navigable waters” in part 112 to comply with that decision.

FOR FURTHER INFORMATION CONTACT: For general information, contact the Superfund, TRI, EPCRA, RMP and Oil Information Center at 800-424-9346 or TDD at 800-553-7672 (hearing impaired). In the Washington, DC metropolitan area, contact the Superfund, TRI, EPCRA, RMP and Oil Information Center at 703-412-9810 or TDD 703-412-3323. For more detailed information, contact Hugo Paul Fleischman of EPA at 202-564-1968, U.S. Environmental Protection Agency, 1200 Pennsylvania Avenue, NW., Washington DC 20460-0002, Mail Code 5104A.

Correction

The Preamble of the final rule E8-28123 published on November 26, 2008, beginning on page 71941 is corrected as follows:

1. On page 71941, second column, under the heading “Summary”, the citation for American Petroleum Institute v. Johnson is corrected to read “541 F.Supp.2d 165” instead of “571 F.Supp.2d 165”.

2. On page 71942, third column, first paragraph, the citation for American Petroleum Institute v. Johnson is corrected to read “541 F.Supp.2d 165” instead of “571 F.Supp.2d 165”.

Dated: December 4, 2008.
Deborah Y. Dietrich,
Director, Office of Emergency Management.

[FR Doc. E8-29379 Filed 12-10-08; 8:45 am]

BILLING CODE 6560-50-P